DEPARTMENT OF AGRICULTURE

Natural Resources Conservation Service

Notice of Availability of a Finding of No Significant Impact for the Sallisaw Creek Watershed Site Nos. 32, 33, and 34 in Sequoyah County, OK

AGENCY: Natural Resources Conservation Service (NRCS) in Oklahoma. U.S. Department of Agriculture.

ACTION: Notice of Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Sallisaw Creek Watershed Site Nos. 32, 33, and 34 Sequoyah County, Oklahoma.

FOR FURTHER INFORMATION CONTACT: M. Darrel Dominick, State Conservationist, Natural Resources Conservation Service, 100 USDA, Suite 206, Stillwater, Oklahoma 74074, (405) 742-1206.

SUPPLEMENTARY INFORMATION: The environmental assessment of this federally assisted action indicates that the project will not cause significant local, regional, or national impacts on the environment. As a result of these findings, M. Darrel Dominick, State Conservationist, has determined that the preparation and review of an environmental impact statement is not needed for this project. The project purpose is flood control. The planned works of improvement include the rehabilitation of three aging floodwater retarding structures to meet current safety criteria and performance standards for a high hazard dam.

The Notice of a Finding of No Significant Impact (FONSI) has been forwarded to the Environmental Protection Agency and to various Federal, State, and local agencies and interested parties. A limited number of copies of the FONSI are available to fill single copy requests at the above address. Basic data developed during the environmental assessment are on file and may be reviewed by contacting M. Darrel Dominick. No administrative action on implementation of the proposal will be taken until 30 days after the date of this publication in the Federal Register.

M. Darrel Dominick,
State Conservationist, Oklahoma.

(This activity is listed in the Catalog of Federal Domestic Assistance under No. 10.904, Watershed Protection and Flood Prevention, and is subject to the provisions of Executive Order 12372, which requires intergovernmental consultation with State and local officials.)

[FR Doc. 05-16202 Filed 8-15-05; 8:45 am]

BILLING CODE 3410-16-P